DEPARTMENT OF HEALTH AND HUMAN SERVICES

Centers for Disease Control and Prevention

[60Day-26-1215; Docket No. CDC-2026-0002]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Awardee Lead Profile Assessment (ALPA). The ALPA survey will serve to identify childhood lead poisoning-related laws and guidance, surveillance and prevention strategies, and program services including blood lead levels at what various case management activities are performed in children exposed to lead.

DATES: CDC must receive written comments on or before March 16, 2026.

ADDRESSES: You may submit comments, identified by Docket No. CDC-2026-0002 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Awardee Lead Profile Assessment (ALPA) (OMB Control No. 0920-1215, Exp. 05/31/2026)—Revision—National Center for Environmental Health (NCEH), Centers for Disease Control and Prevention (CDC).

Background and Brief Description

The Centers for Disease Control and Prevention (CDC) is requesting Paperwork Reduction Act (PRA) Clearance for a three-year Revision of the information collection request (ICR) titled Awardee Lead Profile Assessment (ALPA) (OMB Control No. 0920-1215). The goal of this ICR is to build on the CDC's existing childhood lead poisoning prevention program. CDC requires that ongoing and new CDC Childhood Lead Poisoning Prevention Programs (CLPPPs), including those funded under the current Notice of Funding Opportunity “Childhood Lead Poisoning Prevention and Surveillance of Blood Lead Levels in Children” (CDC-RFA-EH21-2102), complete the ALPA annually.

CDC can use the information obtained to inform guidance, resource development, and technical assistance activities in support of the ultimate goal of eliminating lead exposure in children. Assessment findings will be shared with CDC-funded Childhood Lead Poisoning Prevention Programs (CLPPPs) and in response to inquiries by the public, press, and Congress; a report or journal article may be published. The dissemination of results will support the ability for both funded and non-funded jurisdictions to: (1) identify policies and other factors that support or hinder childhood lead poisoning prevention efforts; (2) understand what strategies are being used by funded state, territorial, and local governments to implement childhood lead poisoning prevention activities; and (3) develop and apply similar strategies to support the national agenda to eliminate childhood lead poisoning.

This program management information collection has been revised in several ways, including the addition of new response options and questions as well as simpler language and structure. The method of data collection has changed from Epi Info to REDCap.

• The electronic data collection tool was updated to REDCap because Epi Info is no longer available at CDC. Using REDCap improves functionality and streamlines data management.

• The section on local laws was removed to focus solely on programs receiving surveillance funding, ensuring greater relevance and consistency across respondents.

• Questions that were unclear or difficult to interpret were revised for clarity.

• Redundant or overlapping questions and response choices were combined where appropriate for clarity and to reduce respondent burden.

• The previous alphanumeric question labels were replaced with a fully numeric system, creating a cleaner and more organized survey format

The revisions on the survey will slightly affect the total time burden requested as the time to take the survey has increased from 47 minutes per response in 2021 to 53 minutes per response in 2025. This time estimate per response is based on pilot tests of the revised survey among five respondents and includes the time needed to review the ALPA Training Manual. CDC requests OMB approval for an estimated 66 annualized burden hours. There is no cost to respondents other than their time to participate.

Estimated Annualized Burden Hours
Type of respondents | Form name | Number of respondents | Number of responses per respondent | Average burden per response (in hours) | Total burden (in hours)
State, Territorial, and Local Governments (or their bona fide fiscal agents) | ALPA Web Survey | 75 | 1 | 53/60 | 66
Total |  |  |  |  | 66

Jeffrey M. Zirger,
Lead, Information Collection Review Office, Office of Public Health Ethics and Regulations, Office of Science, Centers for Disease Control and Prevention.

[FR Doc. 2026-00425 Filed 1-12-26; 8:45 am]

BILLING CODE 4163-18-P